DEFENSE NUCLEAR FACILITIES SAFETY BOARD

Senior Executive Service Performance Review Board

AGENCY: Defense Nuclear Facilities Safety Board.

ACTION: Notice of members of senior executive service performance review board.

SUMMARY: This notice announces the membership of the Defense Nuclear Facilities Safety Board (DNFSB) Senior Executive Service (SES) Performance Review Board (PRB).

DATES: These appointments were effective on February 3, 2022.

ADDRESSES: Send comments concerning this notice to: Defense Nuclear Facilities Safety Board, 625 Indiana Avenue NW, Suite 700, Washington, DC 20004-2001.

FOR FURTHER INFORMATION CONTACT: Deborah A. Biscieglia by telephone at (202) 669-9138 or by email at debbieb@dnfsb.gov.

SUPPLEMENTARY INFORMATION: 5 U.S.C. 4314 (c)(1) through (5) requires each agency to establish, in accordance with regulations prescribed by the Office of Personnel Management, one or more performance review boards. The PRB shall review and evaluate the initial summary rating of the senior executives' performance, the executives' responses, and the higher-level officials' comments on the initial summary rating. In addition, the PRB will review and recommend executive performance bonuses and pay increases.

The DNFSB is a small, independent Federal agency; therefore, the members of the DNFSB SES Performance Review Board listed in this notice are drawn from the SES ranks of other agencies. The following persons comprise a standing roster to serve as members of the Defense Nuclear Facilities Safety Board SES Performance Review Board:

Dolline L. Hatchett, Director, Office of Safety Recommendations and Communications, National Transportation Safety Board;

Andrea Kock, Deputy Office Director for Engineering, Office of Nuclear Reactor Regulation, Nuclear Regulatory Commission;

Catherine Haney, Deputy Executive Director for Materials, Waste, Research, State, Tribal, Compliance, Administration and Human Capital Programs, Nuclear Regulation Commission.

Authority: 5 U.S.C. 4314.

Dated: February 14, 2022.
Joyce L. Connery,
Chair.

[FR Doc. 2022-03509 Filed 2-17-22; 8:45 am]

BILLING CODE 3670-01-P